DEPARTMENT OF HEALTH AND HUMAN SERVICES

Centers for Disease Control and Prevention

[60 Day-11-11AC]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Carol E. Walker, CDC Acting Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Using Traditional Foods and Sustainable Ecological Approaches for Health Promotion and Diabetes Prevention in American Indian/Alaska Native Communities—New—National Center for Chronic Disease Prevention and Health Promotion (NCCDPHP), Centers for Disease Control and Prevention (CDC).

Background and Brief Description

Type 2 Diabetes was rare among American Indians until the 1950s. Since that time, diabetes has become one of the most common and serious illnesses among American Indians and Alaska Natives (AI/AN). From 1994 to 2004, the age-adjusted prevalence of diagnosed diabetes doubled (from 8.5 to 17.1 per 1,000 population) among AI/ANs less than 35 years of age who used Indian Health Service healthcare services. However, dietary management and physical activity can help to prevent or control Type 2 diabetes.

In 2008, the CDC's Native Diabetes Wellness Program (NDWP), in consultation with American Indian/Alaska Native Tribal elders, issued a cooperative agreement entitled, “Using Traditional Foods and Sustainable Ecological Approaches for Health Promotion and Diabetes Prevention in American Indian/Alaska Native Communities.” The Traditional Foods program seeks to build on what is known about traditional ways in order to inform culturally relevant, contemporary approaches to diabetes prevention for AI/AN communities. The program supports activities that enhance or re-introduce indigenous foods and practices drawn from each grantee's landscape, history, and culture. Example activities include the cultivation of community gardens, organization of local farmers' markets, and the dissemination of culturally appropriate health messages through storytelling, audio and video recordings, and printed materials.

CDC requests OMB approval to collect standardized information, called Traditional Foods Shared Data Elements (SDE), from grantees over a three-year period. The SDE will be organized in three domains: Traditional Local Healthy Foods, Physical Activity, and Social Support for Healthy Lifestyle Change and Maintenance. Since each grantee currently maintains activity data for local program improvement, reporting summary information to CDC in SDE format is not expected to entail significant burden to respondents.

The SDE will allow CDC to compile a systematic, quantifiable inventory of activities, products, and outcomes associated with the Traditional Foods program. The SDE will also allow CDC to analyze aggregate data for improved technical assistance and overall program evaluation, reporting, and identification of outcomes; allow CDC and grantees to create a comprehensive inventory/resource library of diabetes primary prevention ideas and approaches for AI/AN communities and identify emerging best practices; and improve dissemination of success stories. The SDE will supplement the narrative progress report that grantees submit to CDC in conjunction with the annual continuation application for funding. Although these reports provide important contextual information and are useful for local program monitoring, they do not support the production of statistical reports that are needed to fully describe the Traditional Foods program and to respond to inquiries.

Respondents will be 17 Tribes and Tribal organizations that receive funding through the Traditional Foods program. The SDE will be routinely submitted to CDC semi-annually using Survey Monkey, an electronic Web-based interface. The estimated burden per response is two hours. Each grantee will receive a personalized advance notification letter, followed by an e-mail with a link to the Survey Monkey site. One of the two required SDE submissions will coincide approximately with submission of the continuation application for funding in the Spring. The second SDE submission will be scheduled annually in the Fall, at approximately the midpoint between the Spring submissions.

CDC anticipates that routine information collection will begin in April 2011 and will describe activities conducted during the period October 2010-March 2011. CDC also requests OMB approval to conduct one additional cycle of retrospective data collection during the first year of this three-year information collection request. The retrospective information collection will provide baseline SDE information about grantee activities conducted prior to October 2010, which is needed for comparison purposes and optimal overall program evaluation. Inclusion of the retrospective data will enable CDC and grantees to have a clearer, more quantifiable view of the growth of Traditional Foods activities over the five-year funding cycle for the cooperative agreement.

The total estimated burden for the one-time retrospective data collection is 34 hours (17 respondents × 2 hours/response). Annualizing this collection over three years results in an estimated annualized burden of 12 hours (6 respondents per year). The annualized figures slightly over-estimate the actual burden, due to rounding of the number of respondents for even allocation over the three-year clearance period. Second, some of the information could be collected through pre-testing the SDE collection system during Fall/Winter 2010.

There are no costs to respondents other than their time.

Estimated Annualized Burden Hours
Type of respondents | Form name | No. of respondents | No. of responses per respondent | Avg. burden per response (in hrs) | Total burden (in hrs)
AI/AN Tribal Grantees | Traditional Foods Shared Data Elements | 17 | 2 | 2 | 68
| One-Time Retrospective Data Collection | 6 | 1 | 2 | 12
Total |  |  |  |  | 80

Dated: November 10, 2010.
Carol E. Walker,
Acting Reports Clearance Officer, Centers for Disease Control and Prevention.

[FR Doc. 2010-28930 Filed 11-16-10; 8:45 am]

BILLING CODE 4163-18-P